DEPARTMENT OF THE INTERIOR

Bureau of Indian Affairs

[245A2100DD/AAKC001030/A0A501010.999900]

Indian Gaming; Amendment to the Tribal-State Class III Gaming Compact for Seneca Nation of Indians

AGENCY: Bureau of Indian Affairs, Interior.

ACTION: Notice.

SUMMARY: This notice announces the approval of an amendment to the existing Class III gaming compact between the Seneca Nation of Indians and the State of New York.

DATES: The amendment takes effect on December 22, 2023.

FOR FURTHER INFORMATION CONTACT: Ms. Paula L. Hart, Director, Office of Indian Gaming, Office of the Assistant Secretary—Indian Affairs, Washington, DC 20240, (202) 219-4066.

SUPPLEMENTARY INFORMATION: Under section 11 of the Indian Gaming Regulatory Act (IGRA), Public Law 100-497, 25 U.S.C. 2701 et seq., the Secretary of the Interior shall publish in the Federal Register notice of approved Tribal-State compacts for the purpose of engaging in Class III gaming activities on Indian lands. As required by 25 CFR 293.4, all compacts and amendments are subject to review and approval by the Secretary. The amendment extends the existing Class III gaming compact between the Seneca Nation of Indians (Seneca Nation) and the State of New York through March 31, 2024, with automatic 90-day extensions thereafter. The Amendment also provides that the present revenue sharing contribution from the Seneca Nation of Indians to the State of New York will continue for the term of the extension and be set aside in an escrow account. The escrowed funds will either be distributed consistent with the terms of a new or amended compact submitted to the Secretary of the Interior and approved by the Secretary or considered approved by operation of law, or through mutual agreement, or pursuant to the Dispute Resolution process in Paragraph 14 of the current compact. The amendment is approved.

Bryan Newland,
Assistant Secretary—Indian Affairs.

[FR Doc. 2023-28295 Filed 12-21-23; 8:45 am]

BILLING CODE 4337-15-P